DEPARTMENT OF TRANSPORTATION

Federal Aviation Administration

Object Oriented Technology in Aviation Workshop

AGENCY: Federal Aviation Administration (FAA), DOT.

ACTION: Notice of Meeting.

SUMMARY: The FAA issues this notice to advise the public of a workshop to discuss Object Oriented Technology (OOT) in Aviation. This notice announces the dates, times, location, and registration information for the workshop.

DATES: The workshop is April 9-11, 2002 from 8:30 a.m. to 5 p.m. daily.

ADDRESSES: The workshop will be held at the Sheraton Norfolk Waterside Hotel, 777 Waterside Drive, Norfolk, VA., 23510 USA, Telephone (757) 622-6664.

FOR FURTHER INFORMATION CONTACT: Kelly Hayhurst, NASA Langley Research Center; email k.j.hayhurst@larc.nasa.gov; telephone (757) 864-6215; web site http://shemesh.larc.nasa.gov/foot/.

SUPPLEMENTARY INFORMATION:

The agenda for the workshop includes:

• Opening session (welcome and workshop overview, workshop vision, OOT overview.)

• Briefings on OOT issues.

• Breakout sessions covering:

—Single inheritance and dynamic dispatch,

—Templates and inlining,

—Reuse and dead/deactivated code,

—Multiple inheritance,

—Tools,

—Other considerations.

• Discussion of breakout session results.

• Closing session (future activities, adjournment.)

This workshop is open to anyone in the aviation community interested in OOT issues related to developing or approving aviation software products that comply with RTCA/DO-178B. Attendees are not required to submit comments or position papers. Workshop Registration fee is $100 (USD) if paid by March 16, 2002 and $300 (USD) if paid thereafter. Make your reservation, and get full details, at the web site http://shemesh.larc.nasa.gov/foot/. The registration fee covers continental breakfast, morning and afternoon breaks each day, and an evening reception on April 9. Make hotel reservations with the Sheraton Norfolk Waterside Hotel, either through their direct phone number at (757) 622-6664 or central reservations at (800) 325-3535. A block of rooms at the rate of $109 (USD) plus taxes is reserved through March 16, 2002. To qualify for this special rate, please state that you are attending the “Object Oriented Technology Workshop.”

Issued in Washington, DC on January 29, 2002.
David W. Hempe,
Acting Manager, Aircraft Engineering Division.

[FR Doc. 02-3241 Filed 2-8-02; 8:45 am]

BILLING CODE 4910-13-M